DEPARTMENT OF HOUSING AND URBAN DEVELOPMENT

[Docket No. FR-5907-N-33]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), call the toll-free Title V information line at 800-927-7588 or send an email to title5@hud.gov .

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 12-07, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 or send an email to title5@hud.gov for detailed instructions, or write a letter to Ann Marie Oliva at the address listed at the beginning of this Notice. Included in the request for review should be the property address (including zip code), the date of publication in the Federal Register, the landholding agency, and the property number.

For more information regarding particular properties identified in this Notice (e.g., acreage, floor plan, condition of property, existing sanitary facilities, exact street address), providers should contact the appropriate landholding agencies at the following addresses: AGRICULTURE: Ms. Debra Kerr, Department of Agriculture, OPPM, Property Management Division, Agriculture South Building, 300 7th Street SW., Washington, DC 20024, (202)-720-8873; COE: Ms. Brenda Johnson-Turner, HQUSACE/CEMP-CR, 441 G Street NW., Washington, DC 20314, (202)-761-7238; ENERGY: Mr. David Steinau, Department of Energy, Office of Asset Management (MA-50), 1000 Independence Ave. SW., Washington, DC 20585, (202)-287-1503; INTERIOR: Mr. Michael Wright, Acquisition & Property Management, Department of the Interior, 3960 N. 56th Ave. #104, Hollywood, FL. 33021; (443) 223-4639; NAVY: Mr. Steve Matteo, Department of the Navy, Asset Management Division, Naval Facilities Engineering Command, Washington Navy Yard, 1330 Patterson Ave. SW., Suite 1000, Washington, DC 20374; (202)-685-9426; (These are not toll-free numbers).

Dated: August 4, 2016.
Tonya Proctor,
Deputy Director, Office of Special Needs Assistance Programs.

TITLE V, FEDERAL SURPLUS PROPERTY PROGRAM FEDERAL REGISTER REPORT FOR 08/12/2016

Suitable/available properties

Building

Oklahoma

SWT-Eufaula Lake

Belle Starr South

102 E Bk 200 Rd.

Stigler OK 74462

Landholding Agency: COE

Property Number: 31201630007

Status: Unutilized

Directions: BSSC04

Comments: Off-site removal only; 307.98 sq. ft.; no future agency need; poor conditions; contact COE for more details.

Cowington Point

HC 61 box 238

Sallisaw OK 74955

Landholding Agency: COE

Property Number: 31201630008

Status: Unutilized

Comments: Off-site removal only; no future agency need; shelter; poor conditions; contact COE for more details.

Texas

Texoma-42477

351 Corps. Rd

Denison TX 75020

Landholding Agency: COE

Property Number: 31201630010

Status: Unutilized

Comments: Off-site removal only; no future agency need; 860.04 sq. ft.; poor conditions; contact COE for more details.

Virginia

Marine Corps Reserve Training

Facility

7401 Warwick Blvd.

Newport News VA

Landholding Agency: Navy

Property Number: 77201510001

Status: Unutilized

Directions: Previously reported and published in the 01/30/2015 FR

Comments: 30,184 sq. ft.; sits on 5.02+ acres; 31+ months vacant; good to fair conditions; contact Navy for more details.

Unsuitable Properties

Building

Arkansas

Toilet-Vault, AR/LD5-42732

MKARNS Project Tar Camp Park

4600 River Rd.

Redfield AR 72132

Landholding Agency: COE

Property Number: 31201630011

Status: Unutilized

Comments: Documented deficiencies: Inundated with regular occurrence of flooding by river; clear threat to physical safety.

Reasons: Extensive deterioration

California

6 Buildings

311 Main Street

Pt. Mugu CA 93043

Landholding Agency: Navy

Property Number: 77201630007

Status: Unutilized

Directions: 557; 566; 568; 569; 570; 571

Comments: Public access denied and no alternative method to gain access without compromising national security.

Reasons: Secured Area

Naval Air Facility Substation

(RPUID: 153148)

1 Administration Circle

China Lake CA 93555

Landholding Agency: Navy

Property Number: 77201630009

Status: Underutilized

Comments: Public access denied and no alternative method to gain access without compromising national security.

Reasons: Secured Area

3 Buildings

Naval Air Station North Island

Naval Base Coronado

San Diego CA 14211

Landholding Agency: Navy

Property Number: 77201630012

Status: Excess

Directions: No. C-34 (6,160 sq. ft. GPS 32.69714 N., 117.1929 W.); No. C-1 (4,211 sq. ft. GPS 32.6977 N., 117.1925 W.); Building 852 (269 sq. ft. GPS 32.68786 N., 117.22215 W.)

Comments: Public access denied and no alternative method to gain access without compromising national security; documented deficiencies: poor structural condition.

Reasons: Secured Area; Extensive deterioration

Guam

108 Single-Story Buildings

South Finegayan Family Housing Area

Finegayan GU

Landholding Agency: Navy

Property Number: 77201630008

Status: Excess

Comments: Public access denied and no alternative to gain access without compromising national security.

Reasons: Secured Area

Hawaii

Facility Number 427H

Joint Base Pearl Harbor Hickam

Honolulu HI 96860

Landholding Agency: Navy

Property Number: 77201630010

Status: Excess

Directions: Tennis Pro-Shop

Comments: Public access denied and no alternative method to gain access without compromising national security.

Reasons: Secured Area

Building 81A

Marine Corps Base

Camp Smith HI

Landholding Agency: Navy

Property Number: 77201630011

Status: Excess

Comments: Public access denied and no alternative method to gain access without compromising national security.

Reasons: Secured Area

Iowa

L80004, RTHBUN-29396

Shower Building in South Fork area

Rathbun Project; 13736 Shrike Pl.

Mystic IA 52574

Landholding Agency: COE

Property Number: 31201630003

Status: Excess

Comments: Documented deficiencies: Doors and walls rotten; clear threat to physical safety.

Reasons: Extensive deterioration

15015, RTHBUN-29330

Shower Building in Buck Creek area

21837 Marina Pl.

Moravia IA 52571

Landholding Agency: COE

Property Number: 31201630004

Status: Excess

Comments: Documented deficiencies: Doors and walls rotten; clear threat to physical safety.

Reasons: Extensive deterioration

L15001, RTHBUN-293920

Vault Toilet in Buck Creek

21750 Marina Pl.

Moravia IA 52571

Landholding Agency: COE

Property Number: 31201630005

Status: Excess

Comments: Documented deficiencies: Doors and walls rotten; clear threat to physical safety.

Reasons: Extensive deterioration

L15002, RTHBUN-29322

Vault Toilet in Buck Creek

21646 Marina Pl

Moravia IA 52571

Landholding Agency: COE

Property Number: 31201630006

Status: Excess

Comments: Documented deficiencies: Doors and walls rotten; clear threat to physical safety.

Reasons: Extensive deterioration

Michigan

Elmwood Warehouse, ID #1311

Latitude 46.22691000, Longitude-088.91930000

Iron River MI 49935

Landholding Agency: Agriculture

Property Number: 15201630010

Status: Unutilized

Comments: Documented deficiencies: Extremely dilapidated; large hole in roof; SE corner of building is collapsing; crumbling sidewalls.

Reasons: Extensive deterioration

Nevada

6 Buildings

Sandia National Laboratories

Tonopah NV 89049

Landholding Agency: Energy

Property Number: 41201630003

Status: Excess

Directions: 03-71; 09-06; 03-87; 09-62; 18-50; 18-51

Comments: Public access denied and no alternative method to gain access without compromising national security.

Reasons: Secured Area

New York

Building 354 (SWAT Office)

Corner of NY Ave. & Battery Rd.

Ft. Wadsworth

Staten Island NY 10305

Landholding Agency: Interior

Property Number: 61201630013

Status: Excess

Comments: Documented deficiencies: Roof damage; structurally unsound; water damage due to Sandy.

Reasons: Extensive deterioration

Texas

Texoma-60606

351 Corps Rd.

Denison TX 75020

Landholding Agency: COE

Property Number: 31201630009

Status: Unutilized

Comments: Documented deficiencies: Damaged due to indented by high water; integrity of structure compromised; clear threat to physical safety.

Reasons: Extensive deterioration

Washington

Kachess Flush

Bakers Lane

Installation No. 07672 00

Cle Elum WA 98922

Landholding Agency: Agriculture

Property Number: 15201630011

Status: Underutilized

Directions: 14780TB1-1434.005511; 14780TB2-1435.005511; 14780TB3-1436.005511; 14780TB4-1437.005511; 14780TB5-1438.005511; 14780TB10-1443.005511

Comments: Floodway (Property located within floodway which has not been correct or contained).

Reasons: Floodway

[FR Doc. 2016-18871 Filed 8-11-16; 8:45 am]

BILLING CODE 4210-67-P